DEPARTMENT OF AGRICULTURE

Natural Resources Conservation Service

Broad Creek Watershed, Delaware

AGENCY: Natural Resources Conservation Service, USDA.

ACTION: Notice of deauthorization of Federal funding.

SUMMARY: Pursuant to the Watershed Protection and Flood Prevention Act, Public Law 83-566, and the Natural Resources Conservation Service Guidelines (7 CFR 622), the Natural Resources Conservation Service gives notice of the deauthorization of Federal funding for the Broad Creek Watershed project, Kent and Sussex Counties, Delaware, effective on March 23, 2006.

FOR FURTHER INFORMATION CONTACT: Jon F. Hall, State Conservationist, Natural Resources Conservation Service, 1221 College Park Drive, Suite 100, Dover, Delaware 19904, 302-678-4160.

(Catalog of Federal Domestic Assistance Program No. 10.904, Watershed Protection and Flood Prevention Office of Management and Budget Circular No. A-95 regarding State and local clearinghouse review of Federal and federally assisted programs and projects is applicable.)

Jon F. Hall,
State Conservationist.

[FR Doc. E6-5508 Filed 4-12-06; 8:45 am]

BILLING CODE 3410-16-P